DEPARTMENT OF THE INTERIOR

Fish and Wildlife Service

50 CFR Part 17

RIN 1018-AT38

Endangered and Threatened Wildlife and Plants; Designating the Greater Yellowstone Ecosystem Population of Grizzly Bears as a Distinct Population Segment; Removing the Yellowstone Distinct Population Segment of Grizzly Bears From the Federal List of Endangered and Threatened Wildlife

AGENCY: Fish and Wildlife Service, Interior.

ACTION: Proposed rule; notice seeking to recover public comments.

SUMMARY: On November 17, 2005, the U.S. Fish and Wildlife Service (Service, or we) proposed to designate the Greater Yellowstone Ecosystem population of grizzly bears as a distinct population segment (DPS) and to then remove this DPS from the Federal List of Endangered and Threatened Wildlife. The public comment period for the proposed rule was open from November 17, 2005, until March 20, 2006. Due to a technological error, we did not receive complete information from a small number of interested parties who provided comments during the comment period for the proposed rule. This notice gives instructions for those commenters concerning how to resubmit their comments to us.

DATES: We will accept the resubmitted e-mail comments for the proposed rule from only those commenters described below until the close of business on July 14, 2006.

ADDRESSES: We encourage eligible commenters to resubmit their comments via e-mail to: grizzly_delisting@fws.gov.

FOR FURTHER INFORMATION CONTACT: Dr. Christopher Servheen, Grizzly Bear Recovery Coordinator, U.S. Fish and Wildlife Service, 309 University Hall, University of Montana, Missoula, Montana 59812, or telephone (406) 243-4903.

SUPPLEMENTARY INFORMATION:

Background

On November 17, 2005, the Service proposed to designate the Greater Yellowstone Ecosystem population of grizzly bears as a DPS and to then remove this DPS from the Federal List of Endangered and Threatened Wildlife (70 FR 69854). The public comment period for the proposed rule was open from November 17, 2005, until March 20, 2006. During this time, the Service received approximately 215,000 comments, 190,000 of which were submitted via e-mail. Over the course of the comment period, there were 2,220 e-mails that were incorrectly identified as spam by the filter used by the government e-mail system and, therefore, only part of the comment was received. We were able to contact all but 22 commenters. For these 22 commenters, we do not possess complete contact information. We are publishing this Federal Register notice in order to contact these 22 individuals. The information that we have for these 22 commenters consists of first and last names and partial e-mail addresses for 15 of the respondents and the first 26 characters of e-mail addresses (and no names) for the remaining 7 respondents. We have placed these partial names and e-mail addresses on a Web site where they can be viewed. By checking the Web site, e-mail respondents will be able to determine if their comment was one of the 22 comments that were incompletely received. Please visit http://mountain-prairie.fws.gov/grizzly_delisting.html to see if your e-mail may be one of the 22 comments that we are requesting be resubmitted.

We request that these 22 people resubmit their original comments by the date listed in the DATES section above. Comments will only be accepted from e-mail addresses that have identical information to that found on the Web site (http://mountain-prairie.fws.gov/grizzly_delisting.html). This is not a reopening of the comment period but rather an attempt to retrieve specific comments that were already submitted during the comment period.

Resubmitting Public Comments

When resubmitting comments by e-mail, please avoid the use of special characters and any form of encryption. Please also include your name and return address in your e-mail message. Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment, but you should be aware that the Service may be required to disclose your name and address under the Freedom of Information Act. However, we will not consider anonymous comments. We will make all submissions from organizations or businesses, and from individuals identifying themselves as representatives or officials of organizations or businesses, available for public inspection in their entirety. Comments and materials we receive will be available for public inspection, by appointment, during normal business hours at the above address listed under the FOR FURTHER INFORMATION CONTACT section.

Authority

The authority for this action is the Endangered Species Act of 1973, as amended (16 U.S.C. 1531 et seq.).

Dated: June 22, 2006.
Marshall Jones,
Acting Director, U.S. Fish and Wildlife Service.

[FR Doc. 06-5830 Filed 6-29-06; 8:45 am]

BILLING CODE 4310-55-P